INTERNATIONAL TRADE COMMISSION

[USITC SE-14-006]

Meeting; Government in the Sunshine Act

AGENCY HOLDING THE MEETING: United States International Trade Commission.

TIME AND DATE: February 28, 2014 at 11:00 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-450 and 731-TA-1122 (Review) (Laminated Woven Sacks from China). The Commission is currently scheduled to complete and file its determinations and views of the Commission on March 11, 2014.

5. Outstanding action jackets: none.

In accordance with Commission policy, subject matter listed above, not disposed of at the scheduled meeting, may be carried over to the agenda of the following meeting.

Issued: February 18, 2014.
By order of the Commission.
William R. Bishop,
Supervisory Hearings and Information Officer.

[FR Doc. 2014-03804 Filed 2-19-14; 11:15 am]

BILLING CODE 7020-02-P